DEPARTMENT OF THE TREASURY

Internal Revenue Service

26 CFR Parts 1, 20, and 25

[REG-115781-01]

RIN 1545-A031

Definition of Guaranteed Annuity and Lead Unitrust Interests; Hearing Cancellation

AGENCY: Internal Revenue Service (IRS), Treasury.

ACTION: Cancellation of notice of public hearing on proposed rulemaking.

SUMMARY: This document cancels the public hearing on proposed regulations under sections 1701, 2522, and 2055 relating to proposed regulations conforming the income, gift, and estate tax regulations to the Tax Court's decision in Estate of Boeshore v. Commissioner, 78 T.C. 523 (1982), acq. in result, 1987-2 C.B. 1, holding portions of § 20.2055-2(e)(2)(vi)(e) of the Estate Tax Regulations invalid.

DATES: The public hearing originally scheduled for October 16, 2002, at 10 a.m., is cancelled.

FOR FURTHER INFORMATION CONTACT: Sonya M. Cruse of the Regulations Unit at (202) 622-7180 (not a toll-free number).

SUPPLEMENTARY INFORMATION: A notice of proposed rulemaking and notice or public hearing that appeared in the Federal Register on Tuesday, July 23, 2002, (67 FR 48070), announced that a public hearing was scheduled for October 16, 2002 at 10 a.m., in room 4718. The subject of the public hearing is proposed regulations under sections 170, 2522, and 2055 of the Internal Revenue Code. The public comment period for these proposed regulations expired on September 25, 2002.

The notice of proposed rulemaking and notice of public hearing, instructed those interested in testifying at the public hearing to submit a request to speak and an outline of the topics to be addressed. As of Wednesday, October 9, 2002, no one has requested to speak. Therefore, the public hearing scheduled for October 16, 2002 is cancelled.

LaNita Van Dyke,
Acting Chief, Regulations Unit, Associate Chief Counsel, Income Tax and Accounting.

[FR Doc. 02-26190 Filed 10-10-02; 8:45 am]

BILLING CODE 4830-01-P